DEPARTMENT OF HEALTH AND HUMAN SERVICES

Request for Information (RFI): Developing the National Public Health Strategy for the Prevention and Control of Vector-Borne Diseases in Humans

AGENCY: Office of the Assistant Secretary for Health (OASH), Office of the Secretary, Department of Health and Human Services (HHS).

ACTION: Request for information.

SUMMARY: The development of a national strategy on vector-borne diseases including tickborne diseases was mandated by Congress. To inform development of the national strategy to address vector-borne diseases, HHS is issuing this Request for Information (RFI). The RFI solicits specific input regarding strategic goals, benchmarks, gaps, duplicative federally funded programs, and opportunities to enhance coordination data collection, research, and the development of diagnostics, treatments, vaccines and other related activities across HHS and other federal departments. The set of questions is available in the SUPPLEMENTARY INFORMATION section below.

DATES: To be considered, public comments must be received electronically no later than midnight eastern standard time (EST) on June 11, 2021.

ADDRESSES: Public comments should be submitted online at http://www.regulations.gov. All submissions must be submitted to the Docket named HHS-OASH-2021-0001 to “Request for Information (RFI) from Non-Federal Stakeholders: Developing the National Public Health Strategy for the Prevention and Control of Vector-Borne Diseases in Humans.” Comments submitted electronically, including attachments, will be posted to the docket unchanged and available to view by the public. Evidence and information supporting your comment can be submitted as attachments. Please provide your contact information or organization name on the web-based form for possible follow up from HHS. There is a 5,000 character limit on comments and maximum number (10) of attached files and maximum size (10 MB) of each attached file.

FOR FURTHER INFORMATION CONTACT: Dr. Kristen Honey, Chief Data Scientist, Senior Advisor, Office of the Assistant Secretary for Health, Department of Health and Human Services, 200 Independence Avenue SW, Washington, DC 20201, vectorbornedisease@hhs.gov, (202) 853-7680.

SUPPLEMENTARY INFORMATION: The development of a national strategy on vector-borne diseases including tickborne diseases was mandated by Congress through Section 404 of H.R. 1865, the Further Consolidated Appropriations Act. Section 404 is Section 317u of the Public Service Act and is named the Kay Hagan Tick Act (Act), in honor of Senator Kay Hagan, who died from complications of having tickborne Powassan virus disease. The Act requires HHS to develop a national strategy to address vector-borne diseases including tickborne diseases (National Strategy). Preparation of the National Strategy builds upon an inter-departmental effort to develop A National Public Health Framework for the Prevention and Control of Vector-Borne Diseases in Humans, released in September 2020.¹

Vector-borne diseases, including diseases caused by mosquitoes, ticks, and fleas, pose an increasing threat to our nation's health. From 2004 to 2018, U.S. cases doubled and nine new pathogens—including chikungunya and Zika viruses—were introduced or discovered.2 3 Tickborne diseases account for nearly 80% of all U.S. vector-borne disease cases, with approximately 476,000 Americans diagnosed and treated for Lyme disease annually.2 4 When not diagnosed and treated early, consequences of Lyme disease can include death due to acute carditis as well as late manifestations that can be difficult to treat and costly.⁵

Local health departments and vector control organizations are the nation's first defense against vector-borne disease outbreaks. Yet some evidence indicates they lack the tools, resources, and training to prevent these outbreaks. For example, an assessment of mosquito control competency at the local-level found that during the 2016-2017 Zika emergency response 84% lacked one or more core vector control competencies.⁶ In parallel, widespread and growing insecticide-resistance threatens the ability of standard pest control measures to control these disease vectors. Additional capacity is needed at state and local levels for vector tracking, testing, and control as well as the prevention of vector-borne disease transmission. Currently no effective population-level interventions that address tickborne diseases exist. No human vaccines against any vector-borne diseases endemic to the continental United States are widely available. Additionally, evidence-based community interventions (e.g., acaricide spraying, animal host vaccination) have not been studied sufficiently to support their use as effective measures to prevent vector-borne disease.

Recognizing the numerous public health challenges and stakeholders involved in the prevention of vector-borne diseases, OASH is working closely with a range of federal partners to lead the development of the National Strategy. This five-year strategy will establish goals to address vector-borne diseases including improving surveillance, diagnosis, prevention, treatment, and research. It will also identify strategies and benchmarks to measure and drive progress toward achieving the goals. To develop this plan, OASH seeks input from subject matter experts, non-federal stakeholders, and other members of the public. Examples of these stakeholders may include health care providers, national professional organizations, state and local health departments, community-based and faith-based organizations, manufacturers, researchers, advocates, and persons affected by vector-borne diseases.

This RFI seeks public input on strengthening and improving the nation's response to vector-borne diseases in a number of areas. Responses may address one or more of the areas below:

1. What do you recommend as the top priorities to address vector-borne diseases in the United States during the next five years? Why are these the most important priorities?

2. What goals, objectives, and strategies would you propose for each of your top priority areas?

3. Do you have recommendations on specific research or programmatic efforts to improve surveillance, diagnosis, prevention, and treatment of vector-borne diseases?

4. Any additional topics you wish to provide input on.

The information received will inform the development of the National Strategy to address vector-borne diseases.

Kristen Honey,
Chief Data Scientist, Senior Advisor, Office of the Assistant Secretary for Health, U.S. Department of Health and Human Services.

Endnotes

¹ A National Public Health Framework for the Prevention and Control of Vector-Borne Diseases in Humans, Centers for Disease Control and Prevention, 28 Sept. 2020, www.cdc.gov/ncezid/dvbd/pdf/Brochure_National_Framework_VBDs-P.pdf.

² Centers for Disease Control and Prevention. 2019. National notifiable diseases surveillance system, 2018 annual tables of infectious disease data. Centers for Disease Control and Prevention. https://www.cdc.gov/nndss/infectious-tables.html.

³ Rosenberg, R., N.P. Lindsey, M. Fischer, C.J. Gregory, A.F. Hinckley, P.S. Mead, G. Paz-Bailey, S.H. Waterman, N.A. Drexler, G.J. Kersh, et al. 2018. Vital signs: Trends in reported vectorborne disease cases—United States and territories, 2004-2016. MMWR. Morb. Mortal. Wkly. Rep. 67: 496-501. https://www.cdc.gov/mmwr/volumes/67/wr/mm6717e1.htm.

⁴ Centers for Disease Control and Prevention. 2018. Lyme Disease. https://www.cdc.gov/lyme/stats/humancases.html.

⁵ Marx et al. Ann Intern Med. 2020;172(3):222-224. DOI: 10.7326/L19-0483.

⁵ National Association of County and City Health Officials. 2017. NACCHO report: Vector control assessment in Zika virus priority jurisdictions. Washington, DC: National Association of County and City Health Officials; http://nacchopreparedness.org/naccho-report-vector-control-assessment-in-zika-virus-priority-jurisdictions.

[FR Doc. 2021-08167 Filed 4-26-21; 8:45 am]

BILLING CODE 4150-28-P